DEPARTMENT OF COMMERCE

International Trade Administration

[C-570-968]

Aluminum Extrusions From the People's Republic of China: Final Results of the Expedited Second Sunset Review of the Countervailing Duty Order

AGENCY: Enforcement and Compliance, International Trade Administration, Department of Commerce.

SUMMARY: As a result of this expedited sunset review, the Department of Commerce (Commerce) finds that revocation of the countervailing duty (CVD) order on aluminum extrusions from the People's Republic of China (China) would likely lead to the continuation or recurrence of a countervailable subsidy at the levels indicated in the “Final Results of Sunset Review” section of this notice.

DATES: Effective July 7, 2022.

FOR FURTHER INFORMATION CONTACT: Frank Schmitt, Office VI, AD/CVD Operations, Enforcement and Compliance, International Trade Administration, U.S. Department of Commerce, 1401 Constitution Avenue NW, Washington, DC 20230; telephone: (202) 482-4880.

SUPPLEMENTARY INFORMATION:

Background

On March 1, 2022, Commerce initiated the second sunset review of the Order,¹ pursuant to section 751(c) of the Tariff Act of 1930, as amended (the Act).² On March 15, 2022, Commerce received a notice of intent to participate, within the 15-day deadline specified in 19 CFR 351.218(d)(1)(i), from the Aluminum Extrusions Fair Trade Committee and its constituent producers of aluminum extrusions (the petitioner).³ The petitioner claimed interested party status under section 771(9)(E) (covering trade and business associations) and individually under section 771(9)(C) (covering manufacturers, producers, and wholesalers) of the Act, respectively.

¹ See Aluminum Extrusions from the People's Republic of China: Countervailing Duty Order, 76 FR 30653 (May 26, 2011) (Order).

² See Initiation of Five-Year (Sunset) Reviews, 87 FR 11416 (March 1, 2022).

³ See Petitioner's Letter, “Aluminum Extrusions from the People's Republic of China: Notice of Intent to Participate in Sunset Review,” dated March 15, 2022.

Commerce received an adequate substantive response from the petitioner within the 30-day deadline specified in 19 CFR 351.218(d)(3)(i).⁴ On April 20, 2022, Commerce notified the U.S. International Trade Commission that we did not receive a substantive response from the Government of China or any respondent interested party to the proceeding.⁵ As a result, pursuant to section 751(c)(3)(B) of the Act and 19 CFR 351.218(e)(l)(ii)(B)(2) and (C)(2), Commerce conducted an expedited (120-day) sunset review of the Order.

⁴ See Petitioner's Letter, “Aluminum Extrusions from the People's Republic of China: Substantive Response to Notice of Initiation of Sunset Review,” dated March 30, 2022 (Substantive Response).

⁵ See Commerce's Letter to U.S. International Trade Commission, “Sunset Reviews Initiated on March 1, 2022,” dated April 20, 2022.

Scope of the Order

The merchandise covered by the Order is aluminum extrusions. For a complete description of the scope of the Order, see Issues and Decision Memorandum.⁶

⁶ See Memorandum, “Issues and Decision Memorandum for the Final Results of the 2022 Expedited Sunset Review of the Countervailing Duty Order on Aluminum Extrusions from the People's Republic of China,” dated concurrently with, and hereby adopted by, this notice (Issues and Decision Memorandum).

Analysis of Comments Received

All issues raised in this review are addressed in the accompanying Issues and Decision Memorandum.⁷ The issues discussed in the Issues and Decision Memorandum are listed in the appendix to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

⁷ Id.

Final Results of Sunset Review

Pursuant to sections 751(c)(1) and 752(b)(1) of the Act, we determine that revocation of the Order would be likely to lead to continuation or recurrence of a net countervailable subsidy at the rates listed below:

Producer/exporter | Net countervailable subsidy rate (percent)
Dragonluxe Limited | 374.15
Foshan Guangcheng Aluminum Co., Ltd., Guang Ya Aluminum Industries Co. Ltd., Guang Ya Aluminum Industries Hong Kong, and Yongji Guanghai Aluminum Industry Co., Ltd | 12.04
Kong Ah International Company Limited | 25.82 ⁸
Karlton Aluminum Company Ltd., Zhaoqing New Zhongya Aluminum Co., Ltd., Zhongya Shaped Aluminum HK Holding Ltd | 20.18
Liaoyang Zhongwang Aluminum Profile Co. Ltd./Liaoning Zhongwang Group | 374.15
Miland Luck Limited | 374.15
All Others | 22.96

Notification Regarding Administrative Protective Order (APO)

⁸ See Aluminum Extrusions from the People's Republic of China: Final Affirmative Countervailing Duty Determination, 76 FR 18521 (April 4, 2011) (Final Determination); see also Aluminum Extrusions from the People's Republic of China: Amended Final Results of Countervailing Duty Administrative Review; 2013, 80 FR 77325 (March 22, 2016) (Final Results 2013 Review). Kong Ah International Company Limited was included among the cross-owned companies comprising the Gyang Ya Group in the Final Determination. However, other members of the Gyang Ya Group were subsequently reviewed as mandatory respondents in the Final Results 2013 Review, while Kong Ah International Company Limited was not. Therefore, the rates for the additional programs found to be countervailable for the individually examined Guang Ya Group Companies in the Final Results 2013 Review are not the rates for Kong Ah International Company Limited. Rather, for additional programs found to be countervailable in the Final Results 2013 Review, we have used the average of the rates of the companies individually examined.

This notice serves as the only reminder to parties subject to APO of their responsibility concerning the return or destruction of proprietary information disclosed under APO in accordance with 19 CFR 351.305. Timely notification of return/destruction of APO materials or conversion to judicial protective order is hereby requested. Failure to comply with the regulations and the terms of an APO is a sanctionable violation.

Notification to Interested Parties

We are issuing and publishing these final results and this notice in accordance with sections 751(c), 752(b), 777(i)(1) of the Act, and 19 CFR 351.218(e)(1)(ii)(C)(2) and 351.221(c)(5)(ii).

Dated: June 29, 2022.
Ryan Majerus,
Deputy Assistant Secretary for Policy and Negotiations.

Appendix

List of Topics Discussed in the Issues and Decision Memorandum

I. Summary

II. Background

III. Scope of the Order

IV. History of the Order

V. Legal Framework

VI. Discussion of the Issues

1. Likelihood of Continuation or Recurrence of a Countervailable Subsidy

2. Net Countervailable Subsidy Rate Likely to Prevail

3. Nature of the Subsidies

VII. Final Results of Sunset Review

VIII. Recommendation

[FR Doc. 2022-14488 Filed 7-6-22; 8:45 am]

BILLING CODE 3510-DS-P